DEPARTMENT OF TRANSPORTATION

Federal Aviation Administration

14 CFR Part 71

[Docket No. FAA-2012-0661; Airspace Docket No. 09-AWA-4]

RIN 2120-AA66

Amendment to Class B Airspace; Detroit, MI

AGENCY: Federal Aviation Administration (FAA), DOT.

ACTION: Final rule.

SUMMARY: This action modifies the Detroit, MI, Class B airspace area to contain aircraft conducting published instrument procedures at Detroit Metropolitan Wayne County Airport (DTW), Detroit, MI, within Class B airspace. The FAA is taking this action to support containment of aircraft operations using the three existing dual Simultaneous Independent Instrument Landing System (SIILS) configurations, runways 22R/21L, runways 4L/3R and runways 27L/27R, as well as support containment of aircraft operations for triple SIILS operations to runways 4L/4R/3R and runways 21L/22L/22R. This action will enhance safety, improve the flow of air traffic, and reduce the potential for midair collisions in the DTW terminal area, while accommodating the concerns of all airspace users. Furthermore, this effort supports the FAA's national airspace redesign goal of optimizing terminal and enroute airspace areas to reduce aircraft delays and improve system capacity.

DATES: Effective Date: 0901 UTC, April 3, 2014. The Director of the Federal Register approves this incorporation by reference action under 3 CFR part 51, subject to the annual revision of FAA Order 7400.9 and publication of conforming amendments.

FOR FURTHER INFORMATION CONTACT: Colby Abbott, Airspace Policy and Regulations Group, Office of Airspace Services, Federal Aviation Administration, 800 Independence Avenue SW., Washington, DC 20591; telephone: (202) 267-8783.

SUPPLEMENTARY INFORMATION:

History

On August 14, 2012, the FAA published in the Federal Register a notice of proposed rulemaking (NPRM) to modify the Detroit Class B airspace area (77 FR 48476). This action proposed to expand the lateral and vertical limits of the Detroit Class B airspace area to provide additional airspace needed to contain dual SIILS procedures and associated traffic patterns supporting runways 22R/21L, runways 4L/3R, and runways 27L/27R simultaneous operations within Class B airspace. The action also supports airspace requirements necessary for planned triple SIILS procedures and associated traffic patterns to runways 4L/4R/3R and runways 21L/22L/22R operations within Class B airspace.

In addition, the FAA published in the Federal Register a document correcting the 5-mile arc of the DXO VOR/DME boundary reference information published in the Areas C, D, and E regulatory text descriptions to the 15-mile arc of the DXO VOR/DME (77 FR 53159, August 31, 2012). Interested parties were invited to participate in this rulemaking effort by submitting written comments on the proposed action. Twenty-three written comments were received in response to the notice. The FAA considered all substantive comments received before making a determination on this final rule.

Discussion of Comments

One commenter suggested that the meetings associated with Detroit Class B airspace modification were held in secret, and without notice to the general public. The commenter stated the groups that attended were specifically invited and were not representing the interests of the flight schools in the area impacted by the proposed changes.

The FAA considers the comment to be specific to the Ad Hoc Committee process the FAA follows during the initial airspace design phase prior to the initiation of rulemaking. To ensure local user needs and suggestions are considered during the initial airspace design phase, an Ad Hoc Committee is formed. The Ad Hoc Committee's purpose is to obtain suggestions from a cross section of users and aviation organizations that could be affected by a proposed airspace change before the FAA develops a proposed airspace design. The committee makeup and size is determined by the local situation or requirements and includes representatives of local users and aviation organizations.

As noted in the NPRM in the Discussion of Ad Hoc Committee Recommendations and Comments section, the interests of the flight schools were represented by the Ad Hoc Committee. The committee made recommendations to the FAA addressing the western boundary remaining basically unchanged in support of outlaying airports, glider activities, and parachute operations; an ATC advisory service to VFR pilots in areas of intensive flight training; and boundary changes to maintain the ability to fly practice approaches at airports without the need for Class B airspace services.

Additionally, the FAA hosted three informal airspace meetings for the general public on July 20, 21, and 22, 2010, that were intended to inform the general public, affected airspace users, and aviation organizations of the proposed airspace changes and to gather facts and information relevant to the planned regulatory action. The FAA published notice of the meetings in the Federal Register (May 13, 2010; 75 FR 11496) and mailed 14,852 informal airspace meeting notification letters to all registered pilots that resided within 100 miles of DTW. As a result, the FAA received comments from 29 individuals.

Five commenters addressed public involvement in the regulatory process proposing to modify the DTW Class B airspace. One commenter praised the FAA's decision to limit western expansion of the DTW Class B airspace contained in the proposal following industry and community input. Conversely, four other commenters believed the FAA largely ignored the concerns and recommendations of the Ad Hoc Committee and public in developing the proposed DTW Class B airspace modification. In general, they argued that the FAA was going through the motions of gathering public comments, but had no intention of modifying the proposal to address the concerns raised by the committee and the public.

The purpose of modifying the DTW Class B airspace is to contain large turbine-powered aircraft conducting instrument procedures within Class B airspace once they entered it, enhance flight safety by segregating large turbine-powered aircraft and non-participating VFR aircraft flying in the vicinity of the DTW Class B airspace area, and contain the instrument procedures and associated traffic flows and patterns supporting those procedures at DTW within Class B airspace. The DTW Class B airspace design was influenced by Ad Hoc Committee and public comments and recommendations received throughout the airspace regulatory process addressing VFR aircraft training areas and activities west of DTW; protection of an uncharted VFR flyway over the Detroit River; the glider, parachute, and ultra-light activities located around DTW; the geographic location and proximity of satellite airports around DTW; and potential impacts to non-participant VFR aircraft transiting the DTW terminal area.

In direct response to comments and recommendations received, the FAA made numerous adjustments to the Class B airspace area proposal. This included reducing the western boundary and associated Class B airspace shelves, adjusting multiple Class B airspace sub-area boundaries and floor altitudes, retaining an uncharted VFR flyway, and aligning airspace boundaries with easily identifiable geographic landmarks.

The FAA removed the airspace area west of DTW from the Class B airspace proposal, from the DXO 333 radial counterclockwise to the SVM 217 radial west of Ann Arbor and Willow Run airports, and terminated the Class B airspace shelf located 25 nautical miles (NM) to 30 NM southwest of DTW and east of Meyers-Divers Airport (3TE). The reduced western boundary provides the minimum amount of Class B airspace necessary to contain large turbine-powered aircraft flying the instrument procedures and associated traffic patterns to/from DTW within Class B airspace while minimizing impact to VFR aircraft flying in existing training areas, parachute and glider activities, and airport operations all located west of DTW.

After originally planning to lower Class B airspace north of DTW in the vicinity of the highways from 4,000 feet MSL to 3,000 feet MSL, the FAA raised the proposed shelf to a minimum of 3,500 feet MSL along the entire length of Interstate 696 (I-696). That change specifically responded to concerns about a reduced volume of airspace being squeezed between the Class B airspace floor, the obstructions along I-696, and aircraft flying in and out of Oakland-Troy Airport (VLL) depicted in the original design.

With respect to recommendations for a single Class B airspace floor overlying Class D airspace areas, the FAA minimized the proposed Class B airspace to the extent practical to ensure containment of large turbine-powered aircraft flying instrument procedures within Class B airspace. The FAA does not agree with establishing a single Class B airspace floor over the two airports affected by this recommendation (Ann Arbor Municipal Airport (ARB) and Coleman A. Young Municipal Airport (DET)) because this would be excessive to what is required and unnecessarily include navigable airspace that would otherwise be available to non-participating VFR aircraft.

Based on recommendations not to lower the 3,000-foot MSL Class B airspace floor above an uncharted VFR flyway over the Detroit River, the FAA moved the proposed 2,500-foot MSL Class B airspace shelf boundary closer to DTW to a 10 NM arc of the DXO VOR/DME and reduced the proposed Class B airspace surface area boundary to an 8 NM arc of the DXO VOR/DME. These adjustments ensure that the existing uncharted VFR flyway will be unaffected, allow easier access at the southern end of the Detroit River, and enable practice approaches at Grosse Ile Municipal Airport (ONZ) without needing a Class B airspace clearance.

The FAA also used landmarks to assist VFR pilots in non-GPS equipped aircraft with easily determining their position relative Class B airspace boundaries. As recommended by the Ad Hoc Committee and airspace users, this rule adopts boundary modifications that align with Interstate highways I-696 and I-94, the Ford World Headquarters building, and the Detroit River and Lake Erie shoreline. Additionally, the FAA retained numerous landmarks depicted on the Detroit VFR Terminal Area Chart to assist VFR pilots.

Fourteen comments addressed the proposed vertical expansion of the DTW Class B airspace ceiling from 8,000 feet MSL to 10,000 feet MSL. Four commenters challenged the operational necessity of the Class B airspace ceiling being raised. Eleven of the commenters argued that raising the Class B airspace area ceiling to 10,000 feet MSL does not increase safety.

Raising the ceiling of the DTW Class B airspace area is necessary to enhance flight safety for all airspace users in the DTW terminal area. As mentioned in the NPRM, DTW arrivals enter the terminal area at 12,000 feet MSL, enter the traffic patterns abeam DTW descending out of 11,000 feet MSL, and are then vectored by the final controller beginning at 9,000 feet MSL on the downwind and 8,000 feet MSL on base leg of the patterns to the final approaches. As a result, a 3,000 foot gap of airspace exists between the altitude that DTW arrivals are descending out of to enter the traffic pattern at 11,000 feet MSL and the Class B ceiling of 8,000 feet. Large turbine-powered aircraft arriving DTW and non-participating VFR aircraft, not communicating with Detroit Terminal Radar Approach Control (D21), are operating simultaneously within this gap of airspace today.

The FAA identified several issues with the 8,000 foot MSL ceiling. It does not segregate large turbine-powered aircraft arriving/departing DTW from the conflicting non-participant VFR aircraft flying over the DTW Class B airspace at 8,500 and 9,500 feet MSL. Additionally, VHF Omnidirectional Range (VOR) Federal airways V-2, V-10, V-65, V-116, V-133, V-176, V-188, V-276, V-383, V-410, and V-426 traverse the DTW terminal area and enable VFR aircraft, not communicating with D21, to fly over the DTW Class B airspace area and conflict with the DTW arrival/departure flows operating in the same airspace area. Raising the ceiling of the DTW Class B airspace will enhance flight safety by segregating the large turbine-powered aircraft arriving/departing DTW and the non-participating VFR aircraft overflying DTW.

Raising the DTW Class B airspace ceiling to 10,000 feet MSL also provides operational and safety advantages by establishing additional airspace for ATC to more efficiently vector and sequence arrival and departure aircraft within the Class B airspace, as well as segregate them from non-participating VFR aircraft that are operating in the same volume of airspace overhead DTW, as they do today. The raised ceiling ensures departure aircraft achieve the required 1,000 feet of standard separation over the top of the downwind arrival traffic flying at 9,000 feet MSL, while remaining 1,000 feet below the traffic pattern aircraft at 11,000 feet MSL. Currently, aircraft departing DTW and requesting to climb to 10,000 feet MSL and above are impacted when D21 must vector the aircraft, at low altitudes, to avoid conflicting non-participant VFR traffic overflying the DTW Class B airspace area. In some instances, D21 must stop all departures until the conflicting traffic is clear. Raising the Class B airspace ceiling to 10,000 feet MSL requires non-participant VFR over flight traffic, which opt to obtain Class B airspace services, to communicate with D21. This will enhance the operational and flight safety benefits for all aircraft operating above DTW, up to 10,000 feet MSL, by enabling D21 to efficiently sequence and separate arriving, departing, and non-participant VFR over flight aircraft simultaneously operating within DTW Class B airspace.

Also, as noted in the NPRM, the eastern portion of the DTW Class B airspace area extends into Canadian airspace. The equivalent Canadian airspace to Class B airspace, as designated in the United States, is Class C airspace. NAV CANADA, the Canadian air service navigation provider, generally designates Class C airspace with a 12,500 feet MSL ceiling, however, has advised the FAA of its willingness to establish corresponding Canadian Class C airspace adjoining the FAA's DTW Class B airspace with a ceiling of 10,000 feet MSL. Additionally, NAV CANADA advised it would make the Canadian Class C airspace action effective to match the effective date of this DTW Class B airspace modification action.

Six commenters asserted that there was insufficient justification to expand the Class B airspace area boundary from 20 NM to 30 NM and that the proposed expansion was based solely on future procedures. One of the commenters further argued that extending the lateral boundaries of DTW Class B airspace to 30 NM will greatly affect the VFR flight areas for airports like Brighton and Livingston County for aircraft without electrical systems.

Extending the DTW Class B airspace to a 30 NM boundary is designed to address current and future issues of containing aircraft executing instrument procedures within the confines of Class B airspace. Today, large turbine-powered aircraft conducting dual SIILS procedures are unable to be contained within existing Class B airspace and are entering, exiting, and reentering DTW Class B airspace while flying the published instrument approach procedures and associated traffic patterns. There are approximately 1,770 operations daily at DTW and D21 is experiencing an average of 156 Class B airspace excursions by large turbine-powered aircraft per day. As a result, large turbine-powered aircraft and non-participating VFR aircraft flying in the vicinity of the Class B airspace boundaries, not in communication with D21, are operating simultaneously in the same volume of airspace.

The existing dual SIILS approaches in use today enable an arrival capacity of 72 arrivals an hour. The expanded boundary provides the minimum amount of airspace essential to contain the large turbine-powered aircraft arriving from multiple arrival streams being sequenced for and conducting the SIILS procedures. Aircraft flying dual SIILS procedures are assigned altitudes that differ by at least 1,000 feet and they are turned on to SIILS approaches so as to ensure they are established on the localizer signal at or outside mandatory turn on points. For dual SIILS approach configurations to Runways 21L/22R, the mandatory turn on point is 18 NM from the runways; for Runways 3R/4L, the mandatory turn on point is 18 NM from the runways; and for Runways 27L/27R, the mandatory turn on point is 20 NM from the runways. These are the minimum distances that large turbine-powered aircraft must be established on the localizer signal for dual SIILS approaches and facilitate D21 controllers to meet minimum aircraft separation guidance requirements for simultaneous independent ILS approaches. During moderate to heavy arrival rushes, the turn on distances extend outward an additional four to ten NM beyond the minimum turn on distances; extending beyond the 20 NM DTW Class B airspace boundary.

Although the existing dual SIILS procedures enable an arrival capacity of 72 aircraft per hour, DTW demand exceeds that level on a daily basis. To address this shortcoming of capacity, triple SIILS approach procedures, which increase DTW is arrival capacity to 112 arrivals per hour, are planned for implementation in spring 2014. As with dual SIILS procedures, aircraft conducting triple SIILS procedures will be assigned altitudes differing by at least 1,000 feet and turned on to the SIILS approaches so they are established on the localizer signal at or outside mandatory turn on points. For triple SIILS approaches to a Runways 21L/22L/22R configuration, the mandatory turn on point is 21 NM from the runways, and for a Runways 3R/4R/4L configuration, the mandatory turn on point is 20 NM from the runways. These are the minimum distances aircraft must be established on the localizer signal for triple SIILS approaches, thereby allowing D21 controllers to meet minimum aircraft separation guidance requirements for simultaneous independent ILS approaches. And, during moderate to heavy arrival rushes, the turn on distances will again extend an additional 4 to 10 NM beyond these minimum turn on distances; extending beyond the 20 NM DTW Class B airspace boundary.

With respect to the comment that extending the lateral boundaries to 30 NM will greatly affect the VFR flight areas of airports like Brighton and Livingston County for aircraft without electrical systems, both airports fall outside the 30 NM DTW Class B airspace area boundary. As such, there is no affect or impact expected to the VFR flight areas of these airports for aircraft with or without electrical systems. Modifying the Class B airspace boundary to extend to 30 NM is necessary to enhance flight safety by containing the large turbine-powered aircraft flying instrument procedures at DTW within Class B airspace, as well as segregating those aircraft and non-participating VFR aircraft operating in the vicinity of the DTW Class B airspace area from one another.

Five commenters addressed the new Class B airspace shelves included in the proposal and the floor altitudes of those areas. Specifically the commenters contend that the FAA ignored user feedback and requests to raise the newly proposed outermost ring of Class B airspace to a floor of 8,000 feet MSL and commenting that the lower 6,000 foot MSL floors were unjustified. They further argued that the Class B airspace shelves proposed southwest of DTW that lowered a portion of an existing Class B airspace from 4,000 feet MSL to 3,000 feet MSL and established two new Class B airspace shelves with floors at 4,000 feet MSL and 6,000 feet MSL were unnecessary.

The DTW Class B airspace area boundary, extending to 30 NM north of DTW clockwise to the southwest of DTW, is necessary for the reasons stated above. Specific to the comments received about Class B airspace floor altitudes, the Class B airspace modifications accomplished by this action establishing new Class B airspace shelves with 3,000-foot MSL, 4,000-foot MSL, and 6,000-foot MSL floors, which are necessary to contain the large turbine-powered aircraft being vectored for and conducting instrument procedures at DTW within Class B airspace. Additionally, the amended and new Class B airspace floor altitudes are aligned with the glide slopes of all the ILS approaches to ensure aircraft flying the instrument procedures are contained within Class B airspace throughout the entire approach.

Operationally, aircraft conducting dual SIILS approaches to any of the three existing dual SIILS runway configurations enter the DTW terminal area at 12,000 feet MSL descending to enter the traffic pattern at either 6,000 feet MSL, descending further to as low as 4,000 feet MSL on a base leg, or at 7,000 feet MSL abeam DTW on a downwind, descending further to as low as 4,000 feet MSL on a base leg. Regardless of traffic flow (north, south, or west), or the direction from which the aircraft enters the DTW terminal area, all aircraft are descended to as low as 4,000 feet MSL in preparation for turn on to the final approach course prior to the mandatory turn on points mentioned previously. When the planned triple SIILS procedures are implemented to either of the triple SIILS runway configurations, aircraft assigned the “middle runway” will enter the terminal area at 12,000 feet MSL, be delivered to, and vectored by, the final controller at 9,000 feet MSL on the downwind and at 8,000 feet MSL on a base leg. The aircraft assigned the outboard runways will continue to enter the traffic pattern at 6,000 feet MSL and 7,000 feet MSL abeam DTW on a downwind, descending to as low as 4,000 feet MSL on base leg, as described above for dual SIILS procedures.

The DTW Class B airspace area floor altitudes established by this rule, extending to 30 NM, ensure containment of large turbine-powered aircraft being vectored for and conducting SIILS approaches to the three existing dual SIILS configurations today (runways 4L/3R, runways 22R/21L, and runways 27L/27R) within Class B airspace; assure segregation of large turbine-powered aircraft and non-participating VFR aircraft from operating simultaneously in the same airspace; and provide a Class B airspace configuration that ensures future containment needs when DTW implements triple SIILS procedures to meet arrival capacity requirements.

Six commenters contended that there are safety concerns associated with the Class B airspace modifications. Five of the commenters submitted that the proposed changes would force non-participating VFR aircraft to fly at lower altitudes to circumnavigate Class B airspace and would compress this transient VFR traffic into the same airspace areas that general aviation airports are operating, thereby creating a dangerous situation due to increased congestion and risk of mid-air collision. One commenter objected to the proposed changes stating that the modifications would decrease the usability and safety of Detroit's airspace.

The primary purpose of a Class B airspace area is to reduce the potential for midair collisions in the airspace surrounding airports with high density air traffic operations by providing an area in which all aircraft are subject to certain operating rules and equipment requirements. FAA directives require Class B airspace areas be designed to contain all instrument procedures, and that air traffic controllers vector aircraft as appropriate to remain within Class B airspace after entry.

With the DTW Class B airspace configuration established in 1987, arriving large turbine-powered aircraft routinely enter, exit, and then re-enter Class B airspace while flying published instrument procedures today, which is contrary to FAA directives. The procedural requirements for establishing these aircraft on the final approach courses, to conduct simultaneous independent approaches to the existing parallel runways, has resulted in aircraft exceeding the lateral boundaries of the Class B airspace by up to 10 NM during moderate to heavy arrival rushes. The DTW Class B airspace modified by this rule enhances flight safety by containing all instrument approach procedures and associated traffic patterns within the boundaries of Class B airspace, supporting increased operations to the current dual and planned triple SIILS runways, and better segregating the large turbine-powered aircraft arriving/departing DTW and non-participating VFR aircraft operating in the vicinity of DTW Class B airspace from one another.

The FAA acknowledges and recognizes that VFR pilots electing to fly below the floor of Class B airspace may be compressed. However, the lower floors are necessary to segregate those aircraft operations from the large turbine-powered aircraft arriving and departing DTW. The Detroit terminal area encompasses the world's eleventh (out of fifty) busiest airport (with over 443,000 airport operations in CY 2011), plus numerous other airports situated in and around the Detroit terminal area. These factors create a complex, high density airspace environment containing a highly diverse mix of aircraft types and aviation activities. In some areas, large turbine-powered aircraft and non-participating VFR aircraft are flying simultaneously in the same airspace. It is essential to segregate the large turbine-powered aircraft arriving/departing DTW and the non-participating VFR aircraft that may not be in communication with ATC. Consequently, some non-participating VFR aircraft may have to fly further, or at different altitudes, in order to remain clear of the modified DTW Class B airspace area. Ultimately, it is the pilot's responsibility to evaluate all factors that could affect a planned flight and determine the safest course of action whether it is circumnavigating the Class B airspace, flying over or beneath the Class B airspace, utilizing a charted VFR flyway, or requesting Class B clearance and services from D21.

Six commenters asserted that the Class B airspace modifications will place an undue burden on general aviation operators wishing to conduct VFR training flights. The commenters claimed that the modifications will have a negative impact on training and further believed that there will not be sufficient altitudes available to conduct most maneuvers.

The DTW Class B airspace will not cause any VFR training practice areas to be lost due to the modified design. The FAA acknowledges that the floor of the Class B airspace established by this action could impact the available altitudes in portions of some training areas located southwest of DTW and a portion of one training area northwest of DTW, should VFR training aircraft choose not to request Class B services with D21. However, by adopting a number of recommendation submitted by the Ad Hoc Committee and during informal airspace meetings, the FAA adjusted the western boundary of Class B airspace to alleviate many practice area impacts. The result is that the practice areas west and north of Ann Arbor would be unaffected.

The Class B airspace established southwest of DTW is required to contain large turbine-powered aircraft conducting dual SIILS arrival procedures to Runways 4L/3R, as well as arrivals entering the DTW terminal airspace via the POLAR1 STAR. It extends over approximately three quarters of the Eastern Michigan University (EMU) Aviation flight school's southern practice area with 3,500-foot MSL, 4,000-foot MSL, and 6,000-foot MSL Class B airspace floors. The EMU southern practice area is subdivided into four sub-areas with virtually no impact to the west northwest sub-area and minor impacts to the southern sub-area, but training activities in the northeast and southeast sub-areas will be limited to 4,000 feet MSL, unless pilots receive a Class B airspace clearance. The FAA does not expect a substantive change to the concentration of VFR training aircraft or training activities conducted in that practice area or the other practice areas located further southwest of DTW under the 6,000-foot MSL Class B airspace shelf. The training activities conducted in those practice areas today could continue under the DTW Class B airspace or within Class B airspace with the appropriate Class B airspace clearance.

The VFR practice area near the General Motors Proving Ground, located north of DTW and southwest of PTK, is partially under a DTW Class B airspace shelf with a 6,000-foot MSL floor; however, VFR training flight activities above 6,000 feet MSL are not normally accomplished there and the 6,000-foot MSL Class B airspace floor will have negligible impact.

And, as noted in the NPRM, the FAA will continue working with the local flight training schools to discuss and pursue aircraft training program activities, scheduling, and airspace alternatives, as required, independent of this Class B airspace modification action.

Three commenters challenged the DTW Class B airspace modifications arguing that they increase the waste of fuel, time, and cost to the VFR traffic that currently uses the airspace areas being established as Class B airspace. One commenter contends that there would be increases to the cost of flight training to clear the Class B airspace area completely, while another commenter allege that the Class B airspace hampers the effectiveness of the General Aviation (GA) community in the Detroit Metropolitan area and costs them more to operate in and around DTW.

The FAA recognizes the Class B airspace modifications could increase fuel burn for non-participating VFR aircraft. To remain clear of the DTW Class B airspace area, non-participating VFR pilots who elect not to contact D21 for Class B services may end up flying at lower altitude or further distances to circumnavigate the Class B airspace. However, this action is necessary to separate them from the large turbine-powered aircraft being contained within the Class B airspace while flying instrument procedures and associated traffic flows/patterns. While some GA pilots will opt to fly additional distance or different altitudes to circumnavigate the Class B airspace, the FAA believes any increase in fuel burn or cost to be minimal and justified by the overall increase in flight safety. The DTW Class B airspace has no impact to the routes or altitudes assigned to IFR and participating VFR aircraft flying in the Detroit terminal area. Additionally, the VFR flyways that are charted on the Detroit VFR Terminal Area Chart remain available for use by GA pilots to transit north and south or east and west under and around the DTW Class B airspace area.

As addressed previously, the Class B airspace design incorporated recommended changes received from the Ad Hoc Committee and informal airspace meetings to prevent impacts, operationally and economically, to the non-participating VFR training aircraft flying in the vicinity of the DTW Class B airspace area.

Fifteen comments were received from the public regarding the fair and equitable access to the DTW Class B airspace area. Eleven of the commenters asserted that the Class B airspace design unfairly affects the activities of the local GA community, limiting their access, without a demonstrated need. Three commenters stated that D21 routinely denies Class B airspace entry requests, or ignores the requests altogether, to highlight the limited access.

The FAA remains committed to providing Class B airspace services to all National Airspace System (NAS) users operating in the airspace surrounding DTW in a manner that keeps the Detroit terminal area safe for all users. As mentioned previously, the primary purpose of a Class B airspace area is to reduce the potential for midair collisions in the airspace surrounding airports with high density air traffic operations by providing an area in which all aircraft are subject to certain operating rules and equipment requirements.

Class B airspace services are not restricted to only those aircraft landing or departing the primary airports around which the Class B airspace is established. Various types of aircraft are routinely cleared into and through DTW Class B airspace when traffic conditions permit doing so safely. Based on historical data and forecast trends, the D21 average daily traffic count includes 684 air carrier, 707 air taxi, 364 general aviation, 15 military IFR operations and 69 VFR operations. When VFR aircraft request Class B services to transit the DTW Class B airspace, they are initially told to remain outside the Class B airspace until radar identification is established; unfortunately and oftentimes, this is misunderstood as denial of Class B services. In 2012, D21 provided Class B services to 25,216 VFR aircraft operations. Routinely, D21 provides Class B airspace clearances and services to VFR aircraft requesting access into and through the DTW Class B airspace when the arrival/departure traffic volume and airspace capacity conditions enable doing so safely.

Differences From the NPRM

Editorial corrections have been made to the Detroit Class B airspace description for clarity and for standardization. Areas A, C, D, F, and H have editorial corrections whereas, the Detroit Class B airspace header and all Areas with reference to “DXO VOR-DME” have been corrected to read “DXO VOR/DME” for standardization. Also, in the NPRM description of Area A, a typographical error that listed a geographic reference as “lat. 42°5′17″ N., long. 83°26′04″ W.” on the 4.4-mile radius of the Detroit Willow Run Airport has been corrected to read “lat. 42°15′17″ N., long. 83°26′04″ W.”. With the exception of the above noted changes and minor editorial corrections, this rule reflects the same Class B airspace area as that published in the NPRM.

The Rule

The FAA is amending Title 14 of the Code of Federal Regulations (14 CFR) part 71 to modify the Detroit Class B airspace area. This action (depicted on the chart in Figure 1—Amendment of the Detroit, MI Class B Airspace Area) lowers the floor of Class B airspace in portions of the Detroit Class B airspace area; extends Class B airspace out to 30 NM to the north, east (designated Class C airspace in Canada), and south of DTW; and raises the ceiling of the entire Class B airspace area from 8,000 feet MSL to 10,000 feet MSL. These modifications provide the airspace needed to contain large turbine-powered aircraft conducting instrument procedures within the confines of Class B airspace, especially when flying existing dual and planned triple SIILS approaches. Additionally, these airspace modifications will ensure efficient airspace utilization and enhance safety by better segregating the large turbine-powered IFR aircraft arriving/departing DTW and the non-participating VFR aircraft operating in the vicinity of the Detroit Class B airspace area. The modifications to the Detroit Class B airspace area are summarized below:

Area A. Area A extends from the ground upward to 10,000 feet MSL, centered on the Detroit VOR/DME antenna. The surface area is expanded by relocating the southern boundary approximately 2.5 NM further south and lowering the Class B airspace floor in that expanded portion of existing Class B airspace from 2,500 feet MSL to the surface.

Area B. Area B extends upward from 2,500 feet MSL to 10,000 feet MSL. The Area B extends from north clockwise to the southwest of DTW between the 8 NM and the 10 NM arcs of the Detroit VOR/DME antenna. The Class B airspace floor is lowered from 3,000 feet MSL to 2,500 feet MSL in the expanded portions of existing Class B airspace northeast and southeast of DTW.

Area C. Area C continues to surround Areas A and B and extends upward from 3,000 feet MSL to 10,000 feet MSL. The Area C boundary from east clockwise to the southwest of DTW is expanded to match the 20 NM arc of the Detroit VOR/DME antenna and from north clockwise to the northeast of DTW is expanded to match the 15 NM arc of the Detroit VOR/DME antenna. The Class B airspace floor is lowered from 4,000 feet MSL to 3,000 feet MSL in the expanded portions of existing Class B airspace and established at 4,000 feet MSL for the expanded portions that were previously outside the Detroit Class B airspace area.

Area D. Area D is redefined to extend upward from 3,500 feet MSL to 10,000 feet MSL. Area D overlays the southeastern half of the Ann Arbor Class D airspace area and extends approximately 7 NM south of the Ann Arbor Class D airspace area between the 15 NM and 20 NM arcs of the Detroit VOR/DME antenna. The Class B airspace floor is raised from 3,000 feet MSL to 3,500 feet MSL for a portion of existing Class B airspace area, lowered from 4,000 feet MSL to 3,500 feet MSL for another portion of existing Class B airspace area, and established at 3,500 feet MSL for the portion that was previously outside the Detroit Class B airspace area.

Area E. Area E is a new subarea that extends upward from 3,500 feet MSL to 10,000 feet MSL. Area E is located north clockwise to northeast of DTW between the 15 NM and 20 NM arcs of the Detroit VOR/DME antenna. The Class B airspace floor is lowered from 4,000 feet MSL to 3,500 feet MSL in the portion of existing Class B airspace and established at 3,500 feet MSL for the portions that were previously outside the Detroit Class B airspace area.

Area F. Area F is a new subarea that extends upward from 4,000 feet MSL to 10,000 feet MSL. This area is established from north clockwise to west southwest of DTW between the 20 NM and 25 NM arcs of the Detroit VOR/DME antenna. The Class B airspace floor is raised from 3,000 feet MSL to 4,000 feet MSL in the portion of existing Class B airspace located west of DTW and established at 4,000 feet MSL for the portion that was previously outside the Detroit Class B airspace area.

Area G. Area G is a new subarea that extends upward from 6,000 feet MSL to 10,000 feet MSL. This new area is located southwest of DTW between the 25 NM and 30 NM arcs of the Detroit VOR/DME antenna. This area abuts Area F and I (described below) and establishes the Class B airspace floor at 6,000 feet MSL in airspace previously outside of the Detroit Class B airspace area.

Area H. Area H is also a new subarea that extends upward from 6,000 feet MSL to 10,000 feet MSL. This new area is located from north northwest clockwise to southeast of DTW and abuts Areas C, E, F, and I (described below) extending to the 25 NM arc of the Detroit VOR/DME antenna. The Class B airspace floor is established at 6,000 feet MSL in airspace previously outside of the Detroit Class B airspace area.

Area I. Area I is another new subarea that extends upward from 9,000 feet MSL to 10,000 feet MSL. This new area is established south of DTW and abuts Areas F, G, and H extending to the 30 NM arc of the Detroit VOR/DME antenna. The Class B airspace floor is established at 9,000 feet MSL in airspace previously outside the Detroit Class B airspace area.

Finally, this action updates the DTW airport reference point coordinates to reflect current NAS data; includes all airports and navigation aids, with geographic coordinates, used to describe the Detroit Class B airspace in the Detroit Class B airspace area legal description header; and describes the Detroit Class B airspace area centered on the Detroit VOR/DME (DXO) antenna.

All radials listed in the Detroit Class B airspace area description in this rule are stated in degrees relative to True North. All geographic coordinates listed in the Detroit Class B airspace area description in this rule are stated in degrees, minutes, and seconds based on North American Datum 83. And, all mileages listed in the Detroit Class B airspace area description in this rule are nautical miles.

Class B airspace areas are published in paragraph 3000 of FAA Order 7400.9X, Airspace Designations and Reporting Points, dated August 7, 2013, and effective September 15, 2013, which is incorporated by reference in 14 CFR section 71.1. The Class B airspace area listed in this rule will be published subsequently in the Order.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

Paperwork Reduction Act

The Paperwork Reduction Act of 1995 (44 U.S.C. 3507(d)) requires that the FAA consider the impact of paperwork and other information collection burdens imposed on the public. We have determined that there is no new information collection requirement associated with this rule.

Regulatory Evaluation Summary

Changes to Federal regulations must undergo several economic analyses. First, Executive Order 12866 and Executive Order 13563 direct that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, the Trade Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this final rule.

Department of Transportation Order DOT 2100.5 prescribes policies and procedures for simplification, analysis, and review of regulations. If the expected cost impact is so minimal that a proposed or final rule does not warrant a full evaluation, this order permits that a statement to that effect and the basis for it be included in the preamble if a full regulatory evaluation of the cost and benefits is not prepared. Such a determination has been made for this final rule. The reasoning for this determination follows:

In conducting these analyses, the FAA has determined that this final rule:

(1) Imposes minimal incremental costs and provides benefits,

(2) Is not an economically “significant regulatory action” as defined in section 3(f) of Executive Order 12866,

(3) Is not significant as defined in DOT's Regulatory Policies and Procedures;

(4) Will not have a significant economic impact on a substantial number of small entities;

(5) Will not have a significant effect on international trade; and

(6) Will not impose an unfunded mandate on state, local, or tribal governments, or on the private sector by exceeding the monetary threshold identified.

These analyses are summarized below.

This final rule modifies the Detroit, MI, Class B airspace to contain aircraft conducting published instrument procedures at Detroit Metropolitan Wayne County (DTW), Detroit, MI, within Class B airspace. The FAA is taking this action to support all three existing Simultaneous Instrument Landing System (SILS) configurations today; runways 22/21, runways 4/3 and runways 27L/27R, as well as to support containment for triple SILS operations planned for the very near future for runways 4L/4R/3R and runways 21L/22L/22R.

The benefits of this rule are enhanced safety, improved flow of air traffic, and reduced potential for midair collisions in the DTW terminal area. In addition, this rule supports the FAA's national airspace redesign goal of optimizing terminal and enroute airspace areas to reduce aircraft delays and improve system capacity.

As described in the NPRM, the costs of this final rule will include the costs of general aviation aircraft that might have to fly further. However, the FAA believes that any such costs will be minimal because the FAA designed the airspace to minimize the effect on aviation users who would not fly in the Class B airspace. In addition the FAA held a series of meetings to solicit comments from people who thought that they might be affected by the proposal. Wherever possible the FAA included the comments from those meetings in this final rule.

The FAA received no comments on the FAA's request for comments on the minimal cost determination. Therefore, the FAA has determined that this final rule is not a “significant regulatory action” as defined in section 3(f) of Executive Order 12866, and is not “significant” as defined in DOT's Regulatory Policies and Procedures.

Regulatory Flexibility Determination

The Regulatory Flexibility Act of 1980 (Pub. L. 96-354) (RFA) establishes “as a principle of regulatory issuance that agencies shall endeavor, consistent with the objective of the rule and of applicable statutes, to fit regulatory and informational requirements to the scale of the business, organizations, and governmental jurisdictions subject to regulation.” To achieve that principle, the RFA requires agencies to solicit and consider flexible regulatory proposals and to explain the rationale for their actions to assure that such proposals are given serious consideration. The RFA covers a wide-range of small entities, including small businesses, not-for-profit organizations and small governmental jurisdictions.

Agencies must perform a review to determine whether a proposed or final rule will have a significant economic impact on a substantial number of small entities. If the agency determines that it will, the agency must prepare a regulatory flexibility analysis as described in the Act.

However, if an agency determines that a proposed or final rule is not expected to have a significant economic impact on a substantial number of small entities, section 605(b) of the 1980 RFA provides that the head of the agency may so certify and a regulatory flexibility analysis is not required. The certification must include a statement providing the factual basis for this determination, and the reasoning should be clear.

In the Initial Regulatory Flexibility Analysis the FAA determined that the proposed rule was expected to improve safety by redefining Class B airspace boundaries and was expected to impose only minimal costs on small entities. The FAA requested comments on this determination.

The FAA received no comments on small entity considerations.

Therefore, the FAA Administrator certifies that this final rule will not have a significant economic impact on a substantial number of small entities.

International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards.

The FAA assessed the potential effect of this proposed rule in the NPRM and determined that it would encourage international cooperation between the United States and Canada and increase safety in both the United States and Canada because the proposal affects airspace in both these countries. The FAA received no comments on this determination.

Therefore, the FAA has determined that this final rule will encourage international cooperation and increase safety between the United States and Canada.

Unfunded Mandates Assessment

Title II of the Unfunded Mandates Reform Act of 1995 (Pub. L. 104-4) requires each Federal agency to prepare a written statement assessing the effects of any Federal mandate in a proposed or final agency rule that may result in an expenditure of $100 million or more (adjusted annually for inflation) in any one year by State, local, and tribal governments, in the aggregate, or by the private sector; such a mandate is deemed to be a “significant regulatory action.” The FAA currently uses an inflation-adjusted value of $143.1 million in lieu of $100 million. This final rule does not contain such a mandate; therefore the requirements of Title II do not apply.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9X, Airspace Designations and Reporting Points, dated August 7, 2013, and effective September 15, 2013, is amended as follows:

Paragraph 3000 Subpart B—Class B Airspace

* * * * *

AGL MI B Detroit, MI

Detroit Metropolitan Wayne County Airport, MI (Primary Airport)

(Lat. 42°12′45″ N., long. 83°21′12″ W.)

Detroit, Willow Run Airport, MI

(Lat. 42°14′21″ N., long. 83°31′51″ W.)

Ann Arbor Municipal Airport, MI

(Lat. 42°13′23″ N., long. 83°44′44″ W.)

Coleman A. Young Municipal Airport, MI

(Lat. 42°24′33″ N., long. 83°00′36″ W.)

Detroit (DXO) VOR/DME

(Lat. 42°12′47″ N., long. 83°22′00″ W.)

Salem (SVM) VORTAC

(Lat. 42°24′32″ N., long. 83°35′39″ W.)

Area A. That airspace extending upward from the surface to and including 10,000 feet MSL within an area bounded by a line beginning at lat. 42°17′18″ N., long. 83°27′27″ W. on the 4.4-mile radius of the Detroit Willow Run Airport; thence northeast to lat. 42°20′47″ N., long. 83°22′12″ W. on the 8-mile arc of the DXO VOR/DME; thence clockwise along the 8-mile arc of the DXO VOR/DME to intercept the 4.4-mile radius of the Detroit Willow Run Airport at lat. 42°09′57″ N., long. 83°32′04″ W.; thence counterclockwise along the 4.4-mile radius of the Detroit Willow Run Airport to lat. 42°12′08″ N., long. 83°26′44″ W.; thence north to lat. 42°15′17″ N., long. 83°26′04″ W. on the 4.4-mile radius of the Detroit Willow Run Airport; thence counterclockwise along the 4.4-mile radius of the Detroit Willow Run Airport to the point of beginning.

Area B. That airspace extending upward from 2,500 feet MSL to and including 10,000 feet MSL within an area bounded by a line beginning at the intersection of the DXO VOR/DME 354° radial and the Detroit Willow Run Airport 047° bearing; thence north along the DXO VOR/DME 354° radial to intercept the 10-mile arc of the DXO VOR/DME; thence clockwise along the 10-mile arc of the DXO VOR/DME to intercept the DXO VOR/DME 234° radial; thence northeast along the DXO VOR/DME 234° radial to intercept the 8-mile arc of the DXO VOR/DME; thence counterclockwise along the 8-mile arc of the DXO VOR/DME arc to lat. 42°20′47″ N., long. 83°22′12″ W.; thence southwest to the point of beginning.

Area C. That airspace extending upward from 3,000 feet MSL to and including 10,000 feet MSL within an area bounded by a line beginning at the intersection of the 5-mile arc of the SVM VORTAC and the 15-mile arc of the DXO VOR/DME at lat. 42°26′42″ N., long. 83°29′34″ W.; thence clockwise along the 15-mile arc of the DXO VOR/DME to intercept the DXO VOR/DME 063° radial; thence northeast along the DXO VOR/DME 063° radial to intercept the 4.1-mile radius of the Coleman A. Young Municipal Airport at lat. 42°20′30″ N., long. 83°01′31″ W.; thence counterclockwise along the 4.1-mile radius of the Coleman A. Young Municipal Airport to intercept the 20-mile arc of the DXO VOR/DME at lat. 42°21′09″ N., long. 82°57′31″ W.; thence clockwise along the DXO 20-mile arc to intercept the DXO VOR/DME 234° radial; thence northeast along the DXO 234° radial to intercept the 15-mile arc of the DXO VOR/DME; thence clockwise along the 15-mile arc of the DXO VOR/DME to intercept the 4.4-mile radius of the Ann Arbor Municipal Airport at lat. 42°09′36″ N., long. 83°41′43″ W.; thence counterclockwise along the 4.4-mile radius of the Ann Arbor Municipal Airport to intercept the SVM VORTAC 214° radial at lat. 42°17′21″ N., long. 83°42′10″ W.; thence northeast along the SVM VORTAC 214° radial to intercept the 5-mile arc of the SVM VORTAC at lat. 42°20′23″ N., long. 83°39′25″ W.; thence counterclockwise along the 5-mile arc of the SVM VORTAC to the point of beginning, excluding Areas A and B.

Area D. That airspace extending upward from 3,500 feet MSL to and including 10,000 feet MSL within an area bounded by a line beginning at the intersection of the SVM VORTAC 214° radial and the 20-mile arc of the DXO VOR/DME; thence counterclockwise along the 20-mile arc of the DXO VOR/DME to intercept the DXO VOR/DME 234° radial; thence northeast along the DXO VOR/DME 234° radial to intercept the 15-mile arc of the DXO VOR/DME at lat. 42°03′57″ N., long. 83°38′18″ W.; thence clockwise along the 15-mile arc of the DXO VOR/DME to intercept the 4.4-mile radius of the Ann Arbor Municipal Airport at lat. 42°09′36″ N., long. 83°41′43″ W.; thence counterclockwise along the 4.4-mile radius of the Ann Arbor Municipal Airport to intercept the SVM VORTAC 214° radial at lat. 42°17′21″ N., long. 83°42′10″ W.; thence southwest along the SVM VORTAC 214° radial to the point of beginning.

Area E. That airspace extending upward from 3,500 feet MSL to and including 10,000 feet MSL within an area bounded by a line beginning at the intersection of the 5-mile arc of the SVM VORTAC and the 15-mile arc of the DXO VOR/DME at lat. 42°26′42″ N., long. 83°29′34″ W.; thence clockwise along the 15-mile arc of the DXO VOR/DME to intercept the DXO VOR/DME 063° radial; thence northeast along the DXO VOR/DME 063° radial to intercept the 4.1-mile radius of the Coleman A. Young Municipal Airport at lat. 42°20′30″ N., long. 83°01′31″ W.; thence counterclockwise along the 4.1-mile radius of the Coleman A. Young Municipal Airport to intercept the 20-mile arc of the DXO VOR/DME at lat. 42°21′09″ N., long. 82°57′31″ W.; thence counterclockwise along the 20-mile arc of the DXO VOR/DME to intercept the SVM VORTAC 044° radial; thence southwest along the SVM VORTAC 044° radial to intercept the 5-mile arc of the SVM VORTAC at lat. 42°28′08″ N., long. 83°30′58″ W.; thence clockwise along the 5-mile arc of the SVM VORTAC to the point of beginning.

Area F. That airspace extending upward from 4,000 feet MSL to and including 10,000 feet MSL within an area bounded by a line beginning at the intersection of the SVM VORTAC 044° radial and the 25-mile arc of the DXO VOR/DME; thence clockwise along the 25-mile arc of the DXO VOR/DME to lat. 41°48′32″ N., long. 83°13′49″ W.; thence west to intercept the 25-mile arc of the DXO VOR/DME at lat. 41°48′11″ N., long. 83°28′00″ W.; thence clockwise along the 25-mile arc of the DXO VOR/DME to intercept the SVM VORTAC 214° radial; thence northeast along the SVM VORTAC 214° radial to intercept the 20-mile arc of the DXO VOR/DME at lat. 42°10′10″ N., long. 83°48′40″ W.; thence counterclockwise along the 20-mile arc of the DXO VOR/DME to intercept the SVM VORTAC 044° radial; thence northeast along the SVM VORTAC 044° radial to the point of beginning.

Area G. That airspace extending upward from 6,000 feet MSL to and including 10,000 feet MSL within an area bounded by a line beginning at the intersection of the SVM VORTAC 214° radial and the 25-mile arc of the DXO VOR/DME at lat. 42°04′33″ N., long. 83°53′44″ W.; thence counterclockwise along the 25-mile arc of the DXO VOR/DME to lat. 41°48′11″ N., long. 83°28′00″ W.; thence west to intercept the 30-mile arc of the DXO VOR/DME at lat. 41°47′43″ N., long. 83°44′08″ W.; thence clockwise along the 30-mile arc of the DXO VOR/DME to lat. 41°51′00″ N., long. 83°49′42″ W.; thence north to the point of beginning.

Area H. That airspace extending upward from 6,000 feet MSL to and including 10,000 feet MSL within an area bounded by a line beginning at a point on the DXO VOR/DME 327° radial at 30-miles at lat. 42°37′56″ N., long. 83°44′08″ W.; thence clockwise along the 30-mile arc of the DXO VOR/DME to lat. 41°46′30″ N., long. 83°02′36″ W.; thence northwest to lat. 41°48′44″ N., long. 83°05′28″ W.; thence west to intercept the 25-mile arc of the DXO VOR/DME at lat. 41°48′32″ N., long. 83°13′49″ W.; thence counterclockwise along the 25-mile arc of the DXO VOR/DME until intercepting the SVM VORTAC 044° radial; thence southwest along the SVM VORTAC 044° radial until intercepting the 5-mile arc of the SVM VORTAC; thence clockwise along the 5-mile arc of the SVM VORTAC to intercept the DXO VOR/DME 327° radial at lat. 42°21′52″ N., long. 83°29′57″ W.; thence northwest along the DXO VOR/DME 327° radial to the point of beginning.

Area I. That airspace extending upward from 9,000 feet MSL to and including 10,000 feet MSL within an area bounded by a line beginning at lat. 41°47′43″ N., long. 83°44′08″ W. on the 30-mile arc of the DXO VOR/DME; thence counterclockwise along the 30-mile arc of the DXO VOR/DME to lat. 41°46′30″ N., long. 83°02′36″ W.; thence northwest to lat. 41°48′44″ N., long. 83°05′28″ W.; thence west to the point of beginning.

Note: The Canadian airspace depicted in Areas C, F, and H above are included in the legal description for the Detroit Class B to accommodate charting. This accommodation reflects airspace established by Transport Canada to complete the Detroit Class B airspace area.

Issued in Washington, DC, on January 9, 2014.
Gary A. Norek,
Manager, Airspace Policy and Regulations Group.

BILLING CODE 4910-13-P

[FR Doc. 2014-00622 Filed 1-17-14; 8:45 am]

BILLING CODE 4910-13-C